DEPARTMENT OF DEFENSE

Office of the Secretary

Meeting of the Defense Department Advisory Committee on Women in the Services (DACOWITS)

AGENCY: Department of Defense.

ACTION: Notice.

SUMMARY: Pursuant to Section 10(a), Public Law 92-463, as amended, notice is hereby given of a forthcoming meeting of the Defense Department Advisory Committee on Women in the Services (DACOWITS). The purpose of the Committee meeting is to receive briefings on Women's Role in Combat and Wounded Warrior issues, view Lioness film, and review pilot and upcoming installation visits. The meeting is open to the public, subject to the availability of space.

DATES: May 27-28, 2009, 8:30 a.m.-5 p.m.

ADDRESSES: Double Tree Hotel Crystal City National Airport, 300 Army Navy Drive, Arlington, VA 22202.

FOR FURTHER INFORMATION CONTACT: MSgt Robert Bowling, USAF, DACOWITS, 4000 Defense Pentagon, Room 2C548A, Washington, DC 20301-4000. Robert.bowling@osd.mil Telephone (703) 697-2122. Fax (703) 614-6233.

SUPPLEMENTARY INFORMATION: Meeting agenda.

Wednesday, May 27, 2009 8:30 a.m.-5 p.m.

—Welcome and announcements

—Lioness film showing

—Staff Judge Advocate legal discussion on OSD Policy on the assignment of women in the armed forces (Direct ground combat definition and assignment rules)

—Book Review: The Lonely Soldier

—Sexual Assault Prevention and Response Office discussion

—Public Forum

Thursday, May 28, 2009 8:30 a.m.-5 p.m.

—Welcome and announcements

—Review research instruments (ICF)

—Review pilot and upcoming installation visits

—Comprehensive Health Care for Women Veterans briefing

—Foundation of care, management, and transition support for recovering service members and their families briefing

—Office of Transition Policy and Care Coordinator briefing

Interested persons may submit a written statement for consideration by the Defense Department Advisory Committee on Women in the Services. Individuals submitting a written statement must submit their statement to the Point of Contact listed above at the address detailed above NLT 3 p.m., Tuesday, May 26, 2009. If a written statement is not received by Tuesday, May 26, 2009, prior to the meeting which is the subject of this notice, then it may not be provided to or considered by the Defense Department Advisory Committee on Women in the Services until its next open meeting. The Designated Federal Officer will review all timely submissions with the Defense Department Advisory Committee on Women in the Services Chairperson and ensure they are provided to the members of the Defense Department Advisory Committee on Women in the Services. If members of the public are interested in making an oral statement, a written statement must be submitted as above. After reviewing the written comments, the Chairperson and the Designated Federal Officer will determine who of the requesting persons will be able to make an oral presentation of their issue during an open portion of this meeting or at a future meeting. Determination of who will be making an oral presentation will depend on time available and if the topics are relevant to the Committee's activities. Two minutes will be allotted to persons desiring to make an oral presentation. Oral presentations by members of the public will be permitted only on Wednesday, May 27, 2009 from 4:30 p.m. to 5 p.m. before the full Committee. Number of oral presentations to be made will depend on the number of requests received from members of the public.

Dated: May 5, 2009.
Patricia L. Toppings,
OSD Federal Register Liaison Officer, Department of Defense.

[FR Doc. E9-10704 Filed 5-7-09; 8:45 am]

BILLING CODE 5001-06-P